DEPARTMENT OF LABOR

Employment and Training Administration

[TA-W-63,439; TA-W-63,439A]

Watson Laboratories, Inc., a Connecticut Corporation, Carmel, NY; Watson Laboratories, Inc., a Connecticut Corporation Also Known as Danbury Pharmacal, Inc., Danbury, CT; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on June 20, 2008, applicable to workers of Watson Laboratories, Inc., a Connecticut Corporation, Carmel, New York. The notice was published in the Federal Register on July 14, 2008 (73 FR 40388). The certification was amended on May 18, 2009 to include workers of the certified worker group located at an off-site facility in Danbury, Connecticut. The notice was published in the Federal Register on June 18, 2009 (74 FR 28957).

At the request of the State agency, the Department reviewed the certification for workers of the subject firm. The workers produce pharmaceuticals and medicines.

New information shows that some workers separated from employment at the Danbury, Connecticut location had their wages reported under a separated unemployment insurance (UI) tax account for Danbury Pharmacal, Inc.

The intent of the Department's certification is to include all workers at the subject firm who were adversely affected by the shift in production of pharmaceuticals and medicines to India and their subsequent import.

Accordingly the Department is amending this certification to include workers of the Danbury, Connecticut location whose (UI) wages are reported under the also known as name Danbury Pharmacal, Inc.

The amended notice applicable to TA-W-64,439 is hereby issued as follows:

“All workers of Watson Laboratories Inc., a Connecticut Corporation, Carmel, New York (TA-W-63,439) and Watson Laboratories, Inc., a Connecticut Corporation, also known as Danbury Pharmacal, Inc., Danbury, Connecticut (TA-W-63,439A), who became totally or partially separated from employment on or after May 27, 2007 through June 20, 2010, are eligible to apply for adjustment assistance under Section 223 of the Trade Act of 1974, and are also eligible to apply for alternative trade adjustment assistance under Section 246 of the Trade Act of 1974.”

Signed in Washington, DC, this 19th day of August 2009.
Richard Church,
Certifying Officer, Division of Trade Adjustment Assistance.

[FR Doc. E9-21157 Filed 9-1-09; 8:45 am]

BILLING CODE 4510-FN-P